DEPARTMENT OF ENERGY

Federal Energy Regulatory Commission

[Docket No. CP19-479-000]

Northern Natural Gas Company; Notice of Revised Schedule for Environmental Review of the Bushton to Clifton A-Line Abandonment Project

This notice identifies the Federal Energy Regulatory Commission (FERC) staff's revised schedule for the completion of the environmental assessment (EA) for Northern Natural Gas Company's Bushton to Clifton A-Line Abandonment Project. The first notice of schedule, issued on July 30, 2019, identified November 8, 2019 as the EA issuance date.

Because affected landowners were inadvertently excluded from the environmental mailing list for the Notice of Intent to Prepare an Environmental Assessment for the Proposed Bushton to Clifton A-line Abandonment Project issued by the Commission on July 15, 2019, we have issued a supplemental notice on November 6, 2019 to provide all affected landowners an opportunity to comment in this proceeding. As a result, staff has revised the schedule for issuance of the EA to extend the comment period and give the public an expanded opportunity to participate in the project's design and implementation.

Schedule for Environmental Review

Issuance of Notice of Availability of the EA—December 17, 2019

90-day Federal Authorization Decision Deadline—March 16, 2019

If a schedule change becomes necessary, an additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC website (www.ferc.gov). Using the eLibrary link, select “General Search” from the eLibrary menu, enter the selected date range and Docket Number excluding the last three digits (i.e., CP19-479), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 7, 2019.
Kimberly D. Bose,
Secretary.

[FR Doc. 2019-24767 Filed 11-14-19; 8:45 am]

BILLING CODE 6717-01-P